DEPARTMENT OF LABOR

Employment and Training Administration

[TA-W-38,893 and NAFTA-04613]

The Budd Company Stamping and Frame Division Philadelphia, PA; Notice of Negative Determination of Reconsideration

On November 30, 2001, the Department issued an Affirmative Determination Regarding Application for Reconsideration for the workers and former workers of the subject firm. The notice was published in the Federal Register on December 26, 2001 (66 FR 66467).

The Department initially denied TAA to workers of The Budd Company, Stamping and Frame Division, Philadelphia, Pennsylvania because the “contributed importantly” group eligibility requirement of section 222(3) of the Trade Act of 1974, as amended, was not met. None of the respondents increased their import purchases of automotive stampings and assemblies, while reducing their purchases from the subject firm.

The Department denied NAFTA-TAA because the “contributed importantly” group eligibility requirement of section 250 was not met and because there was no shift in production to either Mexico or Canada. None of the customers increased their import purchases of automotive stampings and assemblies from Canada or Mexico, while reducing their purchases from the subject firm during the relevant period.

The workers at the subject firm were engaged in employment related to the production of automotive stampings and assemblies.

The petitioner indicated that the subject firm opened a new stamping plant in Silao, Mexico during the fall of 2000. The petitioner further stated that the opening of the Mexican plant resulted in a significant shift in plant production to Mexico.

On reconsideration, the Department contacted the company for an explanation of the alleged shift in plant production to Mexico. The company indicated that no work performed at The Budd Company, Stamping and Frame Division, Philadelphia, Pennsylvania was shifted to their joint venture facility located in Mexico. The company further indicated that they did not import products like and directly competitive with what the subject plant produced back to the United States during the relevant period.

Conclusion

After reconsideration, I affirm the original notice of negative determinations regarding eligibility to apply for worker adjustment assistance and NAFTA-Transitional Adjustment Assistance for workers and former workers of The Budd Company. Stamping and Frame Division, Philadelphia, Pennsylvania.

Dated: Signed at Washington, DC, this 2nd day of January 2002.
Edward A. Tomchick,
Director, Division of Trade Adjustment Assistance.

[FR Doc. 02-2335 Filed 1-30-02; 8:45 am]

BILLING CODE 4510-30-M